DEPARTMENT OF DEFENSE

Office of the Secretary

[Transmittal No. 20-14]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-14 with attached Policy Justification and Sensitivity of Technology.

Dated: April 21, 2020.
Aaron T. Siegel,
Alternate OSD Federal Register Liaison Officer, Department of Defense.

Transmittal No. 20-14

Notice of Proposed Issuance of Letter of Offer Pursuant to Section 36(b)(1) of the Arms Export Control Act, as amended

(i) Prospective Purchaser: Government of India

(ii) Total Estimated Value:

Major Defense Equipment * | $43 million
Other | $49 million
Total | $92 million

(iii) Description and Quantity or Quantities of Articles or Services under Consideration for Purchase:

Major Defense Equipment (MDE):

Ten (10) AGM-84L Harpoon Block II Air Launched Missiles

Non-MDE:

Also included are containers, spare and repair parts, support and test equipment, publications and technical documentation, personnel training and training equipment, Specialized Assignment Airlift Missions (SAAM), U.S. Government and contractor representatives technical assistance, engineering, and logistics support services, and other related elements of logistics and program support.

(iv) Military Department: Navy (IN-P-ABM)

(v) Prior Related Cases, if any: IN-P-ABC

(vi) Sales Commission, Fee, etc., Paid, Offered, or Agreed to be Paid: None

(vii) Sensitivity of Technology Contained in the Defense Article or Defense Services Proposed to be Sold: See Attached Annex.

(viii) Date Report Delivered to Congress: April 13, 2020

* As defined in Section 47(6) of the Arms Export Control Act.

POLICY JUSTIFICATION

India—AGM-84L Harpoon Air-Launched Block II Missiles

The Government of India has requested to buy ten (10) AGM-84L Harpoon Block II air launched missiles. Also included are containers, spare and repair parts, support and test equipment, publications and technical documentation, personnel training and training equipment, Specialized Assignment Airlift Missions (SAAM), U.S. Government and contractor representatives technical assistance, engineering, and logistics support services, and other related elements of logistics and program support. The estimated program cost is $92 million.

This proposed sale will support the foreign policy and national security of the United States by helping to strengthen the U.S.-Indian strategic relationship and to improve the security of a major defensive partner, which continues to be an important force for political stability, peace, and economic progress in the Indo-Pacific and South Asia region.

The proposed sale will improve India's capability to meet current and future threats from enemy weapon systems. The Harpoon missile system will be integrated into the P-8I aircraft to conduct anti-surface warfare missions in defense of critical sea lanes while enhancing interoperability with the United States and other allied forces. India will use the enhanced capability as a deterrent to regional threats and to strengthen its homeland defense. India will have no difficulty absorbing this equipment into its armed forces.

The proposed sale of this equipment and support will not alter the basic military balance in the region.

The principal contractor will be The Boeing Company, St. Louis, Missouri. There are no known offset agreements proposed in connection with this potential sale. Any offset agreement required by India will be defined in negotiations between the purchaser and the contractor(s).

Implementation of this proposed sale will not require the assignment of additional U.S. Government and/or contractor representatives to India; however, U.S. Government or contractor personnel in-country visits will be required on a temporary basis in conjunction with program technical oversight and support requirements.

There will be no adverse impact on U.S. defense readiness as a result of this proposed sale.

Transmittal No. 20-14

Notice of Proposed Issuance of Letter of Offer Pursuant to Section 36(b)(1) of the Arms Export Control Act

Annex

Item No. vii

(vii) Sensitivity of Technology:

1. The AGM-84L Harpoon Air Launched Block II Missile System is classified CONFIDENTIAL. The Harpoon missile is a non-nuclear tactical weapon system currently in-service in the U.S. Navy and 29 other foreign nations. It provides a day, night, adverse weather, stand-off air-to-surface capability and is an effective Anti-Surface Warfare missile. The AGM-84L incorporates components that are considered sensitive. These elements are essential to the ability of the Harpoon missile to selectively engage hostile targets under a wide range of operations, tactical and environmental conditions. The version being sold to the Government of India is a Coastal Target Suppression land attack weapon. The following components being conveyed by the proposed sale are considered sensitive and are classified CONFIDENTIAL:

a. The Radar Seeker

b. The GPS/INS System

c. Operational Flight Program Software

d. Missile operational characteristics and performance data

2. If a technologically advanced adversary were to obtain knowledge of the hardware and software elements, the information could be used to develop countermeasures or equivalent systems which might reduce system effectiveness or be used in the development of a system with similar or advanced capabilities.

3. A determination has been made that India can provide substantially the same degree of protection for the sensitive technology being released as the U.S. Government. This proposed sale is necessary to further the U.S. foreign policy and national security objectives outlined in the Policy Justification.

4. All defense articles and services listed on this transmittal have been authorized for release and export to the Government of India.

[FR Doc. 2020-08790 Filed 4-24-20; 8:45 am]

BILLING CODE 5001-06-P